DEPARTMENT OF THE TREASURY

Office of Foreign Assets Control

31 CFR Part 587

Publication of Russian Harmful Foreign Activities Sanctions Regulations Web General Licenses 40B, 47A, and 48A

AGENCY: Office of Foreign Assets Control, Treasury.

ACTION: Publication of Web General Licenses.

SUMMARY: The Department of the Treasury's Office of Foreign Assets Control (OFAC) is publishing three general licenses (GLs) issued in the Russian Harmful Foreign Activities Sanctions Regulations: GLs 40B, 47A, and 48A, each of which was previously made available on OFAC's website.

DATES: GLs 40B, 47A, and 48A were issued on August 3, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On August 2, 2022, OFAC issued GLs 40A, 47, and 48 to authorize certain transactions otherwise prohibited by the Russian Harmful Foreign Activities Sanctions Regulations, 31 CFR part 587. On August 3, 2022, OFAC issued GLs 40B, 47A, and 48A to clarify that the licenses apply to Joint Stock Company State Transportation Leasing Company.

GL 40B replaced and superseded GL 40A and contains no expiration date. GL 47A replaced and superseded GL 47 and expires at 12:01 a.m. eastern daylight time, September 1, 2022. GL 48A replaced and superseded GL 48 and contains two expiration dates: (i) 12:01 a.m. eastern daylight time, October 3, 2022, for the authorization in paragraphs (a)(1) and (b) of GL 48A, and (ii) 12:01 a.m. eastern daylight time, October 31, 2022, for the authorization in paragraph (a)(2) of GL 48. At the time of issuance, GLs 40B, 47A, and 48A were each made available on OFAC's website (www.treas.gov/ofac). The text of these GLs is provided below.

OFFICE OF FOREIGN ASSETS CONTROL

Russian Harmful Foreign Activities Sanctions Regulations

31 CFR Part 587

GENERAL LICENSE NO. 40B

Civil Aviation Safety

(a) Except as provided in paragraph (b), all transactions ordinarily incident and necessary to the provision, exportation, or reexportation of goods, technology, or services to ensure the safety of civil aviation involving one or more of the blocked entities listed in the Annex to this general license and that are prohibited by Executive Order (E.O.) 14024 are authorized, provided that:

(1) The aircraft is registered in a jurisdiction solely outside of the Russian Federation; and

(2) The goods, technology, or services that are provided, exported, or reexported are for use on aircraft operated solely for civil aviation purposes.

(b) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the Russian Harmful Foreign Activities Sanctions Regulations, 31 CFR part 587 (RuHSR), including transactions involving any person blocked pursuant to the RuHSR other than the blocked entities listed in the Annex to this general license, unless separately authorized.

(c) Effective August 3, 2022, General License No. 40A, dated August 2, 2022, is replaced and superseded in its entirety by this General License No. 40B.

Note to General License 40B. Nothing in this general license relieves any person from compliance with any other Federal laws or requirements of other Federal agencies, including export, reexport, and transfer (in-country) licensing requirements maintained by the Department of Commerce's Bureau of Industry and Security under the Export Administration Regulations, 15 CFR parts 730 through 774.

Bradley T. Smith,

Deputy Director, Office of Foreign Assets Control.

Dated: August 3, 2022.

Annex—Blocked Entities Described in Paragraph (a) of General License 40B

List of blocked entities described in paragraph (a) of General License 40B:

(a) Public Joint Stock Company United Aircraft Corporation;

(b) Irkut Corporation Joint Stock Company;

(c) Energotsentr Irkut;

(d) Irkut-Avtotrans;

(e) Irkut-Remstroi;

(f) Irkut-Stanko Service;

(g) Rapart Servisez;

(h) Sportivno-Ozdorovitelnyi Tsentr Irkut-Zenit;

(i) Tipografiya Irkut;

(j) Joint Stock Company Ilyushin Finance Company;

(k) Open Joint Stock Company Ilyushin Aviation Complex;

(l) Public Joint Stock Company Taganrog Aviation Scientific-Technical Complex N.A. G.M. Beriev;

(m) Joint Stock Company Flight Research Institute N.A. M.M. Gromov;

(n) Tupolev Public Joint Stock Company;

(o) Limited Liability Company Kapo-Avtotrans;

(p) Limited Liability Company Kapo-Zhilbitservis;

(q) Limited Liability Company Networking Company Irkut;

(r) Joint Stock Company State Transportation Leasing Company; or

(s) Any entity in which one or more of the above persons own, directly or indirectly, individually or in the aggregate, a 50 percent or greater interest.

OFFICE OF FOREIGN ASSETS CONTROL

Russian Harmful Foreign Activities Sanctions Regulations

31 CFR Part 587

GENERAL LICENSE NO. 47A

Authorizing the Wind Down of Transactions Involving Certain Entities Blocked on August 2, 2022

(a) Except as provided in paragraph (b) of this general license, all transactions ordinarily incident and necessary to the wind down of any transaction involving one or more of the following blocked persons that are prohibited by Executive Order (E.O.) 14024 are authorized through 12:01 a.m. eastern daylight time, September 1, 2022, provided that any payment to a blocked person must be made into a blocked account in accordance with the Russian Harmful Foreign Activities Sanctions Regulations, 31 CFR part 587 (RuHSR):

(1) Skolkovo Foundation;

(2) Skolkovo Institute of Technology;

(3) Technopark Skolkovo Limited Liability Company;

(4) Federal State Institution of Higher Vocational Education Moscow Institute of Physics and Technology;

(5) Publichnoe Aktsionernoe Obschestvo Magnitogorskiy Metallurgicheskiy Kombinat;

(6) Joint Stock Company State Transportation Leasing Company; or

(7) Any entity in which one or more of the above persons own, directly or indirectly, individually or in the aggregate, a 50 percent or greater interest.

(b) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the RuHSR, including transactions involving any person blocked pursuant to the RuHSR other than the blocked persons described in paragraph (a) of this general license, unless separately authorized.

(c) Effective August 3, 2022, General License No. 47, dated August 2, 2022, is replaced and superseded in its entirety by this General License No. 47A.

Bradley T. Smith,

Deputy Director, Office of Foreign Assets Control.

Dated: August 3, 2022.

OFFICE OF FOREIGN ASSETS CONTROL

Russian Harmful Foreign Activities Sanctions Regulations

31 CFR Part 587

GENERAL LICENSE NO. 48A

Divestment or Transfer of Debt or Equity of, and Wind Down of Derivative Contracts Involving, Certain Entities Blocked on August 2, 2022

(a)(1) Except as provided in paragraphs (c) and (d) of this general license, all transactions prohibited by Executive Order (E.O.) 14024 that are ordinarily incident and necessary to the divestment or transfer, or facilitation of the divestment or transfer, of debt or equity of one or more of the following entities purchased prior to August 2, 2022 (“covered debt or equity”) to a non-U.S. person are authorized through 12:01 a.m. eastern daylight time, October 3, 2022:

(i) Publichnoe Aktsionernoe Obschestvo Magnitogorskiy Metallurgicheskiy Kombinat;

(ii) Joint Stock Company State Transportation Leasing Company; or

(iii) Any entity in which one or more of the above entities own, directly or indirectly, individually or in the aggregate, a 50 percent or greater interest.

(2) Except as provided in paragraphs (c) and (d) of this general license, all transactions prohibited by E.O. 14024 that are ordinarily incident and necessary to facilitating, clearing, and settling trades of covered debt or equity are authorized through 12:01 a.m. eastern daylight time, October 31, 2022, provided that such trades were placed prior to 4:00 p.m. eastern daylight time, August 2, 2022.

(b) Except as provided in paragraph (d) of this general license, all transactions prohibited by E.O. 14024 that are ordinarily incident and necessary to the wind down of derivative contracts entered into prior to August 2, 2022, that (i) include a blocked person described in paragraph (a) of this general license as a counterparty or (ii) are linked to covered debt or equity are authorized through 12:01 a.m. eastern daylight time, October 3, 2022, provided that any payments to a blocked person are made into a blocked account in accordance with the Russian Harmful Foreign Activities Sanctions Regulations, 31 CFR part 587 (RuHSR).

(c) Paragraph (a) of this general license does not authorize:

(1) U.S. persons to sell, or to facilitate the sale of, covered debt or equity to, directly or indirectly, any person whose property and interests in property are blocked; or

(2) U.S. persons to purchase or invest in, or to facilitate the purchase of or investment in, directly or indirectly, covered debt or equity, other than purchases of, or investments in, covered debt or equity that are ordinarily incident and necessary to the divestment or transfer of covered debt or equity, as described in paragraph (a) of this general license.

(d) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the RuHSR, including transactions involving any person blocked pursuant to the RuHSR other than the persons described in paragraph (a) of this general license, unless separately authorized.

(e) Effective August 3, 2022, General License No. 48, dated August 2, 2022, is replaced and superseded in its entirety by this General License No. 48A.

Bradley T. Smith,

Deputy Director, Office of Foreign Assets Control.

Dated: August 3, 2022.

Andrea M. Gacki,
Director, Office of Foreign Assets Control.

[FR Doc. 2022-19443 Filed 9-7-22; 8:45 am]

BILLING CODE 4810-AL-P